DEPARTMENT OF LABOR

Bureau of Labor Statistics

Technical Advisory Committee; Notice of Meeting and Agenda

The Bureau of Labor Statistics Technical Advisory Committee will meet on Thursday, November 17, 2022. This meeting will be held virtually from 9:00 a.m. to 3:00 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics, data science, and survey design.

The schedule and agenda for the meeting are as follows:

9:00 a.m.—Commissioner's Welcome and Review of Agency Developments

9:30 a.m.—CPS Work Schedules and Work at Home Supplement

11:00 a.m.—Improved Methods to Increase CFOI Publishability

1:30 p.m.—Improved Hedonic Methods for Televisions and Wireless Phone Service Using Blended Survey and Non-Survey Data

3:00 p.m.—Approximate Conclusion

The meeting is open to the public. Any questions concerning the meeting should be directed to Sarah Dale, Bureau of Labor Statistics Technical Advisory Committee, at BLSTAC@bls.gov. Individuals planning to attend the meeting should register at https://blstac.eventbrite.com. Individuals who require special accommodations should contact Ms. Dale at least two days prior to the meeting date.

Signed at Washington, DC, this 13th day of October 2022.
Eric Molina,
Acting Chief, Division of Management Systems.

[FR Doc. 2022-22687 Filed 10-18-22; 8:45 am]

BILLING CODE 4510-24-P